ENVIRONMENTAL PROTECTION AGENCY

[FRL-10006-92-OW]

Notice of Availability of the Deepwater Horizon Oil Spill Louisiana Trustee Implementation Group Final Restoration Plan and Environmental Assessment #6: Wetlands, Coastal, and Nearshore Habitats and Finding of No Significant Impact

AGENCY: Environmental Protection Agency (EPA).

ACTION: Notice of availability.

SUMMARY: In accordance with the Oil Pollution Act of 1990 (OPA) and the National Environmental Policy Act (NEPA), the Federal and State natural resource trustee agencies for the Louisiana Trustee Implementation Group (Louisiana TIG) prepared the Final Restoration Plan and Environmental Assessment #6: Wetlands, Coastal, and Nearshore Habitats (Final RP/EA #6). The Final RP/EA #6 describes and, in conjunction with the associated Finding of No Significant Impact (FONSI), selects three restoration project alternatives considered by the Louisiana TIG to restore and conserve wetlands, coastal, and nearshore habitats injured as a result of the Deepwater Horizon oil spill. The Louisiana TIG evaluated these alternatives under criteria set forth in the OPA natural resource damage assessment (NRDA) regulations, and also evaluated the environmental consequences of the restoration alternatives in accordance with the NEPA. The selected projects are consistent with the restoration alternatives selected in the Deepwater Horizon Oil Spill Final Programmatic Damage Assessment and Restoration Plan/Programmatic Environmental Impact Statement (PDARP/PEIS). The Federal Trustees of the Louisiana TIG have determined that implementation of the Final RP/EA #6 is not a major federal action significantly affecting the quality of the human environment within the context of the NEPA. They have concluded a FONSI is appropriate, and, therefore, an Environmental Impact Statement will not be prepared. This notice informs the public of the approval and availability of the Final RP/EA #6 and FONSI.

ADDRESSES: Obtaining Documents: You may download the Final RP/EA #6 and FONSI at any of the following sites:

• http://www.gulfspillrestoration.noaa.gov

• http://www.la-dwh.com

Alternatively, you may request a CD of the Final RP/EA #6 and FONSI (see FOR FURTHER INFORMATION CONTACT). You may also view the document at any of the public facilities listed at http://www.gulfspillrestoration.noaa.gov.

FOR FURTHER INFORMATION CONTACT:

• Louisiana—Joann Hicks, 225-342-5477

• EPA—Douglas Jacobson, 214-665-6692

SUPPLEMENTARY INFORMATION:

Introduction

On April 20, 2010, the mobile offshore drilling unit Deepwater Horizon, which was being used to drill a well for BP Exploration and Production, Inc. (BP), in the Macondo prospect (Mississippi Canyon 252-MC252), experienced a significant explosion, fire, and subsequent sinking in the Gulf of Mexico, resulting in the release of an unprecedented volume of oil and other discharges from the rig and from the wellhead on the seabed. The Deepwater Horizon oil spill is the largest offshore oil spill in U.S. history, discharging millions of barrels of oil over a period of 87 days. The Trustees conducted the natural resource damage assessment for the Deepwater Horizon oil spill under the Oil Pollution Act of 1990 (33 U.S.C. 2701 et seq.). Under the OPA, Federal and State agencies act as trustees on behalf of the public to assess natural resource injuries and losses and to determine the actions required to compensate the public for those injuries and losses. The OPA further instructs the designated trustees to develop and implement a plan for the restoration, rehabilitation, replacement, or acquisition of the equivalent of the injured natural resources under their trusteeship, including the loss of use and services from those resources from the time of injury until the time of restoration to baseline (the resource quality and conditions that would exist if the spill had not occurred) is complete.

The Deepwater Horizon oil spill Trustees are:

• U.S. Environmental Protection Agency (EPA);

• U.S. Department of the Interior (DOI), as represented by the National Park Service, U.S. Fish and Wildlife Service, and Bureau of Land Management;

• National Oceanic and Atmospheric Administration (NOAA), on behalf of the U.S. Department of Commerce;

• U.S. Department of Agriculture (USDA);

• State of Louisiana Coastal Protection and Restoration Authority (CPRA), Oil Spill Coordinator's Office (LOSCO), Department of Environmental Quality (LDEQ), Department of Wildlife and Fisheries (LDWF), and Department of Natural Resources (LDNR);

• State of Mississippi Department of Environmental Quality;

• State of Alabama Department of Conservation and Natural Resources and Geological Survey of Alabama;

• State of Florida Department of Environmental Protection and Fish and Wildlife Conservation Commission; and

• State of Texas Parks and Wildlife Department, General Land Office, and Commission on Environmental Quality.

On April 4, 2016, the Trustees reached and finalized a settlement of their natural resource damage claims with BP in a Consent Decree approved by the United States District Court for the Eastern District of Louisiana. Pursuant to that Consent Decree, restoration projects in the Louisiana Restoration Area are chosen and managed by the Louisiana TIG. The Louisiana TIG is composed of the following Trustees: CPRA, LOSCO, LDEQ, LDWF, LDNR, EPA, DOI, NOAA, USDA.

Background

A Notice of Availability of the Deepwater Horizon Oil Spill Louisiana Trustee Implementation Group Draft Restoration Plan and Environmental Assessment #6: Wetlands, Coastal, and Nearshore Habitats (Draft RP/EA #6) was published in the Federal Register at 84 FR 70186 on December 20, 2019. The Louisiana TIG hosted a public webinar on January 8, 2020, and the public comment period for the Draft RP/EA #6 closed on January 21, 2020. The Draft RP/EA #6 evaluated four restoration project alternatives in accordance with the OPA and the NEPA. The Louisiana TIG considered the public comments received on the Draft RP/EA #6 which informed the Louisiana TIG's analyses and selection of three restoration projects for implementation in the Final RP/EA #6. A summary of the public comments received and the Trustees' responses to those comments are included in Chapter 7 of the Final RP/EA #6.

Overview of the Final RP/EA

The Final RP/EA is being released in accordance with the OPA, NRDA implementing regulations, and the NEPA. In the Final RP/EA #6, the Louisiana TIG selects the following preferred project alternatives in the Wetlands, Coastal, and Nearshore Habitats restoration type:

• West Grand Terre Beach Nourishment and Stabilization;

• Golden Triangle Marsh Creation; and

• Biloxi Marsh Living Shoreline.

The Louisiana TIG has examined the injuries assessed by the Deepwater Horizon Trustees and evaluated restoration alternatives to address the injuries. In the Final RP/EA #6, the Louisiana TIG presents to the public its plan for providing partial compensation for lost wetlands, coastal, and nearshore habitats. The selected projects are intended to continue the process of using restoration funding to restore and conserve wetlands, coastal, and nearshore habitats injured by the Deepwater Horizon oil spill. The total estimated cost of the selected projects is approximately $209 million. Additional restoration planning for the Louisiana Restoration Area will continue.

Administrative Record

The documents comprising the Administrative Record for the Final RP/EA #6 and FONSI can be viewed electronically at https://www.doi.gov/deepwaterhorizon/adminrecord.

Authority

The authority for this action is the Oil Pollution Act of 1990 (33 U.S.C. 2701 et seq.), its implementing NRDA regulations found at 15 CFR part 990, and the NEPA (42 U.S.C. 4321 et seq.).

Dated: March 31, 2020.
Benita Best-Wong,
Deputy Assistant Administrator, Office of Water.

[FR Doc. 2020-07264 Filed 4-9-20; 8:45 am]

BILLING CODE 6560-50-P